INTERNATIONAL TRADE COMMISSION

[Investigation No. 332-483]

Advice Concerning Possible Modifications to the U.S. Generalized System of Preferences, 2006 Review

AGENCY: United States International Trade Commission.

ACTION: Institution of investigation and scheduling of hearing.

DATES: Effective Date: January 18, 2007.

SUMMARY: Following receipt on January 11, 2007 of a request from the United States Trade Representative (USTR) under section 332(g) of the Tariff Act of 1930 (19 U.S.C. 1332 (g)), the Commission instituted investigation No. 332-483, Advice Concerning Possible Modifications to the U.S. Generalized System of Preferences, 2006 Review.

FOR FURTHER INFORMATION CONTACT: Information may be obtained from Cynthia B. Foreso, Project Leader, Office of Industries (202-205-3348 or cynthia.foreso@usitc.gov) or Falan Yinug, Deputy Project Leader, Office of Industries (202-205-2160 or falan.yinug@usitc.gov). For more information on legal aspects of the investigation, contact William Gearhart of the Commission's Office of the General Counsel at 202-205-3091 or william.gearhart@usitc.gov. The media should contact Margaret O'Laughlin, Office of External Relations at 202-205-1819 or margaret.olaughlin@usitc.gov.

Background: As requested by the USTR, in accordance with section 503(d)(1)(A), of the Trade Act of 1974, as amended (1974 Act), the Commission will provide advice on whether any industry in the United States is likely to be adversely affected by a waiver of the competitive need limits specified in section 503(c)(2)(A) of the 1970 Act for Argentina for HTS subheadings 2836.91.00 and 7202.99.20; Brazil for HTS subheadings 7403.11.00 and 7408.11.60; India for HTS subheadings 2001.10.00, 5703.10.20, and 8528.12.80; and Thailand for HTS subheading 4011.20.10. With respect to the competitive need limit in section 503(c)(2)(A)(i)(I) of the 1974 Act, the Commission, as requested, will use the dollar value limit of $125 million. In an addendum received on January 17, 2007, the USTR also requested that this advice include the effect of such waivers on consumers.

As requested by the USTR, the Commission will provide its advice no later than April 11, 2007. The USTR indicated that those sections of the Commission's report and related working papers that contain the Commission's advice will be classified.

Public Hearing: A public hearing in connection with this investigation will be held beginning at 9:30 a.m. on February 22, 2007, at the United States International Trade Commission Building, 500 E Street SW, Washington, DC. All persons have the right to appear by counsel or in person, to present information, and to be heard. Persons wishing to appear at the public hearing should file a letter with the Secretary, United States International Trade Commission, 500 E St., SW, Washington, DC 20436, not later than the close of business (5:15 p.m.) on February 5, 2007, in accordance with the requirements in the “Submissions” section below.

Written Submissions: In lieu of or in addition to participating in the hearing, interested parties are invited to submit written statements or briefs concerning these investigations. All written submissions, including requests to appear at the hearing, statements, and briefs, should be addressed to the Secretary, United States International Trade Commission, 500 E Street SW, Washington, DC 20436. Any prehearing statements or briefs should be filed not later than 5:15 p.m., February 8, 2007; the deadline for filing posthearing statements or briefs is 5:15 p.m., February 27, 2007. All written submissions must conform with the provisions of section 201.8 of the Commission's Rules of Practice and Procedure (19 CFR. 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf).

Any submissions that contain confidential business information must also conform with the requirements of section 201.6 of the Commission's Rules of Practice and Procedure (19 CFR. 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of these investigations in the report it sends to the USTR. As requested by the USTR, the Commission will publish a public version of the report, which will exclude portions of the report that the USTR has classified as confidential as well as any confidential business information. Persons with mobility impairments who will need special assistance in gaining access to the Commission should contact the Secretary at 202-205-2000.

By order of the Commission.
Issued: January 22, 2007.
Marilyn R. Abbott,
Secretary to the Commission.

[FR Doc. E7-1283 Filed 1-25-07; 8:45 am]

BILLING CODE 7020-02-P